DEPARTMENT OF THE INTERIOR

National Park Service

[NPS-WASO-NAGPRA-NPS0038096; PPWOCRADN0-PCU00RP14.R50000]

Notice of Intended Repatriation: Chicago Historical Society, Chicago, IL

AGENCY: National Park Service, Interior.

ACTION: Notice.

SUMMARY: In accordance with the Native American Graves Protection and Repatriation Act (NAGPRA), the Chicago Historical Society and its affiliate Chicago History Museum (“Chicago Historical Society”) intends to repatriate a certain cultural item that meets the definition of an unassociated funerary objects and that has a cultural affiliation with the Indian Tribes or Native Hawaiian organizations in this notice.

DATES: Repatriation of the cultural item in this notice may occur on or after July 17, 2024.

ADDRESSES: Jamie Lewis, Registrar, Chicago Historical Society, 1601 N Clark Street, Chicago, IL 60614, telephone (312) 799-2067, email jlewis@chicagohistory.org.

SUPPLEMENTARY INFORMATION: This notice is published as part of the National Park Service's administrative responsibilities under NAGPRA. The determinations in this notice are the sole responsibility of the Chicago Historical Society, and additional information on the determinations in this notice, including the results of consultation, can be found in the summary or related records. The National Park Service is not responsible for the determinations in this notice.

Abstract of Information Available

One cultural item has been requested for repatriation. The unassociated funerary object is a stone club (CHM X.3563.2024). Writing on the item indicates that the club head was removed from a burial mound which historically stood at the current location of Forest Home Cemetery on the Des Plaines River in Forest Park, IL. The item was found in the collection with no associated museum records. Information from external sources identifies this mound as a Potawatomi burial mound that was razed in 1869 by the landowner, Ferdinand Haase, to create Forest Home Cemetery for white settlers in the area. The funerary items that were inside the mound were kept on semi-permanent display by Haase at the Cemetery until 1968, when several of the items were transferred to the Forest Park Public Library. It is unknown when and by what means the club was acquired by the Chicago Historical Society. In 2019, funerary items and human remains were returned by the Forest Park Public Library to the Forest County Potawatomi Community.

Determinations

The Chicago Historical Society has determined that:

• The one unassociated funerary object described in this notice is reasonably believed to have been placed intentionally with or near human remains, and is connected, either at the time of death or later, as part of the death rite or ceremony of a Native American culture according to the Native American traditional knowledge of a lineal descendant, Indian Tribe, or Native Hawaiian organization. The unassociated funerary object has been identified by a preponderance of the evidence as related to human remains, specific individuals, or families, or removed from a specific burial site or burial area of an individual or individuals with cultural affiliation to an Indian Tribe or Native Hawaiian organization.

• There is a reasonable connection between the cultural item described in this notice and the Forest County Potawatomi Community, Wisconsin.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after July 17, 2024. If competing requests for repatriation are received, the Chicago Historical Society must determine the most appropriate requestor prior to repatriation. Requests for joint repatriation of the cultural item are considered a single request and not competing requests. The Chicago Historical Society is responsible for sending a copy of this notice to the Indian Tribes and Native Hawaiian organizations identified in this notice and to any other consulting parties.

Authority: Native American Graves Protection and Repatriation Act, 25 U.S.C. 3004 and the implementing regulations, 43 CFR 10.9.

Dated: June 7, 2024.
Melanie O'Brien,
Manager, National NAGPRA Program.

[FR Doc. 2024-13247 Filed 6-14-24; 8:45 am]

BILLING CODE 4312-52-P